DEPARTMENT OF COMMERCE

National Oceanic and Atmospheric Administration

[RTID 0648-XC542]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Individual Fishing Quota (IFQ) Focus Group. The meeting is open to the public. There will be a virtual option for the public to listen to the plenary sessions and provide public comments at the end of day 2.

DATES: The meeting will convene on November 30, 2022, from 9 a.m. to 5 p.m. and December 1, 2022, from 9 a.m. to 4 p.m., EST.

ADDRESSES: The meeting will take place at the Gulf Council office. Please visit the Gulf Council website at www.gulfcouncil.org for meeting materials.

Council address: Gulf of Mexico Fishery Management Council, 4107 W. Spruce Street, Suite 200, Tampa, FL 33607; telephone: (813) 348-1630.

FOR FURTHER INFORMATION CONTACT: Dr. Ava Lasseter, Anthropologist, Gulf of Mexico Fishery Management Council; ava.lasseter@gulfcouncil.org, telephone: (813) 348-1630.

SUPPLEMENTARY INFORMATION: Charge: To provide a detailed plan for the following:

• Review the current IFQ programs' goals and objectives and recommend their replacement/retention. These revised goals and objectives shall serve as the basis for the Focus Group recommendations.

• Define the changes needed for an improved Red Snapper and Grouper-Tilefish IFQ Program to specifically address minimizing discards, fairness and equity, and new entrants' issues.

• The Council is considering changes to assist new entrants (i.e., replacement fishermen) to the IFQ programs.

○ What could such program changes look like and what would be the implications of those changes?

○ Evaluate the benefits and drawbacks to get to active fishermen who own no shares:

1. Increases in annual allocation (not shares), and

2. Allocation held by the agency in non-active accounts.

The meeting will begin with welcome, introductions and meeting format, followed by a review of the agenda and meeting objectives. The focus group will assess and discuss program changes, next steps and other business. Public comment will be available as time allows at the end of Day 2.

Meeting Adjourns

The Agenda is subject to change, and the latest version along with other meeting materials will be posted on www.gulfcouncil.org. You may register for the webinar to listen-in only by visiting www.gulfcouncil.org and click on the Council meeting on the calendar.

Although other non-emergency issues not on the agenda may come before this group for discussion, in accordance with the Magnuson-Stevens Fishery Conservation and Management Act, those issues may not be the subject of formal action during this meeting. Actions will be restricted to those issues specifically identified in the agenda and any issues arising after publication of this notice that require emergency action under Section 305(c) of the Magnuson-Stevens Fishery Conservation and Management Act, provided the public has been notified of the Council's intent to take-action to address the emergency.

Authority: 16 U.S.C. 1801 et seq.

Dated: November 8, 2022.
Rey Israel Marquez,
Acting Deputy Director, Office of Sustainable Fisheries, National Marine Fisheries Service.

[FR Doc. 2022-24756 Filed 11-14-22; 8:45 am]

BILLING CODE 3510-22-P